ENVIRONMENTAL PROTECTION AGENCY

[FRL-9798-9]

Notice of Proposed CERCLA Agreement and Order on Consent for Removal Action by Bona Fide Prospective Purchaser; All Metals Processing Company Site, San Fernando Valley Area 2 Superfund Site, Glendale Chromium Operable Unit, 264 W. Spazier Ave., Burbank, California

ACTION: Notice; request for public comment.

SUMMARY: Notice is hereby given pursuant to Section 122(i), of the Comprehensive Environmental Response, Compensation, and Liability Act of 1980, as Amended (CERCLA) that the United States Environmental Protection Agency (EPA) has reached a proposed agreement (Agreement) with a Bona Fide Prospective Purchaser concerning a removal action to carried out at the All Metal Processing Company Site, part of the San Fernando Valley Area 2 Superfund Site, Glendale Chromium Operable Unit, located at 264 W. Spazier Ave., Burbank, California. Under the proposed Agreement, executed March 25, 2013, the Brett and Chris Warner Trust, dated May 31, 2012 (Purchaser), the Bona Fide Prospective Purchaser of 264 W. Spazier Ave., Burbank, California, has agreed to relocate an existing monitoring well on the property under the oversight of the EPA. In addition, the Purchaser has agreed to maintain a cap over the property through construction of a warehouse and adjacent parking area. In addition, the Purchaser has agreed to pay EPA its oversight costs up to $20,000. In return, the Purchaser will receive a covenant not to sue by EPA, provided the Purchaser complies with all terms and conditions of the Agreement. The Purchaser will also receive contribution protection under CERCLA.

For thirty (30) calendar days following the date of publication of this notice, EPA will receive comments relating to the proposed Agreement. EPA's response to comments received will be available for public inspection at the Superfund Records Center, 95 Hawthorne Ave., Suite 403S, San Francisco, CA 94105, 415-764-4963.

DATES: Comments must be received on or before May 6, 2013.

Availability: The proposed Agreement may be obtained from the Superfund Records Center, 95 Hawthorne Street, Suite 403S, San Francisco, CA 94105, Phone 415-764-4963. Comments regarding the proposed Agreement should be addressed to Larry Bradfish at the address below, and should reference “All Metals Processing Company Site” and “EPA Docket No. R9-2013-04.”

FOR FURTHER INFORMATION CONTACT: Larry Bradfish, Assistant Regional Counsel (ORC-3), Office of Regional Counsel, U.S. EPA Region IX, 75 Hawthorne Street, San Francisco, CA 94105; Email: bradfish.larry@epa.gov; Phone (415) 972-3934.

Dated: March 28, 2013.
Jane Diamond,
Director, Superfund Division, Region IX.

[FR Doc. 2013-07989 Filed 4-4-13; 8:45 am]

BILLING CODE 6560-50-P